DEPARTMENT OF THE INTERIOR

National Park Service

Final Environmental Impact Statement/General Management Plan, Olympic National Park; Clallam, Gray's Harbor, Jefferson and Mason Counties, WA; Notice of Availability

SUMMARY: Pursuant to the National Environmental Policy Act of 1969, 42 U.S.C. 4332(2)(C), the National Park Service (NPS) has prepared a Final Environmental Impact Statement for the proposed General Management Plan (Final GMP/EIS), Olympic National Park, Washington. The purpose of the GMP is to provide management direction for resource protection and visitor use at Olympic National Park for the next 15 to 20 years. A GMP is needed to confirm the purpose and significance of the park, to clearly define resource conditions and visitor experiences to be achieved in the park, to provide a framework for park managers to use when making decisions as to how to best protect park resources and provide for a diverse range of visitor experiences, to ensure a foundation for decision making in consultation with interested stakeholders, and to serve as the basis for more detailed management documents. In addition to a “baseline” no-action alternative (Alternative A) which would maintain current management, the Final GMP/EIS describes and analyzes three “action” alternatives. Alternative B emphasizes cultural and natural resource protection and natural processes would take priority over visitor access in certain areas of the park. Alternative C emphasizes increased recreational and visitor opportunities. Alternative D is the “management preferred” alternative; it is a combination of the other alternatives, emphasizing both protection of park resources and improving visitor experiences. The foreseeable environmental consequences of all the alternatives, and mitigation strategies, are identified and analyzed; as documented in the Final EIS, Alternative D is deemed to be the “environmentally preferred” course of action.

Description of Alternatives: The Final GMP/EIS includes three action alternatives and a no-action alternative. The no-action alternative (Alternative A) assumes that existing programs, facilities, staffing, and funding would generally continue at their current levels, and the current management practices would continue. There would be no zoning designated within the park, and issues would be evaluated on a case-by-case basis without a long range plan or vision. The park would continue to be managed in accordance with existing plans and policies.

Alternative B emphasizes cultural and natural resource protection; natural processes would have priority over visitor access in certain areas of the park. In general, the park would be managed as a large ecosystem preserve emphasizing wilderness management for resource conservation and protection, with a reduced number of facilities to support visitation. Some roads and facilities would be moved or closed to protect natural processes, and visitor access and services in sensitive areas would be reduced. Boundary adjustments for the purposes of resource protection would be considered adjacent to the park in the Ozette, Lake Crescent, Hoh, Queets, and Quinault areas. When compared with the other alternatives, this alternative would have less front country acreage designated as development, and more acreage designated as low-use and day-use zones. This alternative includes a river zone and an intertidal reserve zone.

Alternative C emphasizes increased recreational and visitor opportunities. The natural and cultural resources are protected through management actions and resource education programs. However, maintaining access to existing facilities would be a priority, and access would be retained to all existing front country areas or increased by improving park roads to extend season of use. New or expanded interpretation and educational facilities would be constructed. This alternative includes a boundary adjustment in the Ozette area. When compared with the other alternatives, this alternative would have increased acreages zoned as development and day use and decreased acreages of low-use zone areas. This alternative would include an intertidal reserve zone; there would be no river zone.

Alternative D is the park's “preferred” alternative. It was developed by integrating key components of the other alternatives, emphasizing both the protection of park resources and improving visitor experiences. All management activities minimize adverse effects on park resources to the extent possible. Access would be maintained to existing front country areas, but roads might be modified or relocated for resource protection, river restoration, and/or to maintain vehicular access. Visitor education and interpretative facilities would be improved or developed to improve visitor opportunities and to protect park resources. Three boundary adjustments are proposed, which include seeking land exchanges and partnering with Washington Department of Natural Resources, developing protective strategies in coordination with the U.S. Forest Service for its lands within the adjusted boundaries, and acquiring private land by willing seller only. This alternative includes slightly more development zone acreage in the front country when compared with Alternative B, and slightly less than Alternative C. This alternative has more day-use zone acreage than Alternative B, and more low-use zone acreage than Alternative C. A river zone is not included, but the alternative does include an intertidal reserve zone.

Changes Incorporated in the Final EIS: The park made minor changes and clarified aspects of the preferred alternative as a result of public comment; however, there were no substantive modifications. Editorial changes and additional explanatory text on topics of interest were incorporated. Other changes made to the Final GMP/EIS as a result of public comments included clarifying the purpose, need, and legislative procedures for boundary adjustments and the potential cost for property acquisition and land easements.

Several public comments related to the management of cultural resources in wilderness. The wilderness and cultural resources sections have been updated based on changes in NPS Management Policies 2006. The public also expressed concerns related to existing access rights to private property and the effects the alternatives would have on the socioeconomic resources in the region. Information on private property access rights has been included.

The socioeconomic information in the affected environment and environmental consequences section has been updated based on the best available information and data provided by the public during the Draft EIS comment period.

There were questions from the public related to management and wilderness zoning. Management zones have been rewritten to clarify front country zone descriptions and stock use. Wilderness zoning definitions remain within the plan but the exact on-the-ground designation has been removed from the plan and will be delineated through a subsequent wilderness management plan process (which will include ample opportunity for public involvement and review). Area Indian tribes provided comments and additional information for the Final EIS. Laws and policies governing use by Native Americans of park resources have been added to “Laws, Regulations, Servicewide Mandates and Policies” and desired conditions and strategies under “Parkwide Policies and Servicewide Mandates” have been updated or clarified for several topics. In addition, visitation information has been updated with the most up-to-date statistics. Responses to comments are provided in the Final GMP/EIS.

In addition to these minor changes and clarifications, several public comments resulted in minor modifications to the final preferred alternative (Alternative D). Instituting an overnight permit system for parking at Swan Bay was suggested so that lake users, including private property owners, could park overnight at that location. Keeping Rayonier Landing open for day use only was also proposed. Both of these ideas were included in the final preferred alternative. Some agencies, tribes, and communities requested increased partnering to improve visitor education and opportunities and collaborative cultural and natural resources management, and this is incorporated.

There were also suggestions to integrate components of Alternatives A, B, and C into the final preferred alternative. Many commenters felt that Alternative A should be selected as no change was necessary to meet park management objectives. However, continuing the current management would not fulfill the plan objectives and expressed purpose and need.

The park received numerous comments to expand the proposed boundary adjustment for the final preferred alternative to more closely match that included in Alternative B. This was considered but not incorporated in the final preferred alternative because the park determined that other options could be used to promote resource protection (such as working with partners and employing cooperative management strategies outside the park boundaries). The park also received multiple requests to integrate wild and scenic river studies for the 12 eligible rivers into the plan, and to institute a river zone as included in Alternative B. During development of the proposed GMP, the park reviewed the existing eligibility studies and determined that formal suitability studies related to wild and scenic rivers designation would be conducted in a separate planning process after the GMP is completed due to the high number of rivers involved and the detail needed for these studies. The park also included protective measures for rivers and floodplains in Alternative D; therefore a formal river zone designation is not needed to meet park desired conditions. The park also received recommendations to include improvements to park roads and facilities similar to those explored under Alternative C, including paving existing gravel roads, expanding existing facilities and parking lots, and increasing visitor services. These suggestions were rejected in the final preferred alternative because they are not needed to meet park purpose, needs, and objectives. Many suggestions provided were too detailed to be included in the final proposed plan (e.g. interpretive exhibits, wilderness management practices) and are recorded for consideration in future implementation plans.

Text in the final preferred alternative has been clarified to emphasize that any property acquisition would be by exchange, through easements, or by willing seller only; updated information has been provided to clarify the need for boundary expansions. Boundary adjustments would not occur until property is acquired through the willing seller process and accomplished pursuant to the legislative process. The preferred alternative has been modified slightly based on public concerns—the potential area of exchange for mineral rights has been changed from lands solely in the Ozette watershed to lands within the State of Washington. The NPS would work with the State of Washington to identify priority areas for exchange.

Public Engagement: The park's Notice of Intent initiating the conservation planning and environmental impact analysis/GMP planning process was published in the Federal Register on June 4, 2001. Public engagement and information measures have included public meetings, presentations and meetings, newsletter and postcard mailings, local and regional press releases, and Web site postings. The official public scoping process began in June 2001 when a scoping newsletter was distributed to approximately 800 people on the park's mailing list. During September and October 2001, public scoping meetings were held in several locations around the Olympic Peninsula and in the region. More than 500 comments were received during the scoping process. The majority of comments fell into the following categories: resource protection, wilderness management, visitor use and experience, access to park areas, and partnerships. Due consideration of these comments aided in defining the issues to be considered in developing the draft plan.

In January 2002, a newsletter was distributed to summarize the planning issues and concerns brought forward during scoping, and to announce five workshops to be held in late January to seek public participation in developing alternatives. This was followed by the releases of a preliminary alternatives newsletter (distributed in May 2003) and a park update newsletter (distributed November 2004) to the project mailing list, which had reached approximately 1,200 individuals, agencies, area tribes, and organizations. In March 2006 an R.S.V.P. card with a postage paid response was sent to those on the mailing list to announce the upcoming release of the draft plan and to determine who on the mailing list wanted a copy of the plan. Approximately 340 cards were returned with requests for a copy of the plan or for notification of its release.

The EPA's notice of filing of the draft EIS was published in the Federal Register on June 16, 2006, and the document was available for extended public review for 105 days through September 30, 2006, during which time the NPS distributed approximately 900 copies. The park's Notice of Availability was published in the Federal Register on July 14, 2006. The document was available at park offices, visitor centers and at area libraries, and it was posted on the Internet. Printed and CD-ROM copies were sent upon request, and also distributed to agencies, government representatives, area tribes, organizations, and interested individuals.

Detailed information announcing the opportunity for public review and the locations, times and dates for public workshops was published in several area newspapers, including The Peninsula Daily News, Forks Forum, The Daily World, The Seattle Times, Port Townsend and Jefferson County Leader, and the Kitsap Sun. Public workshops were conducted in Port Townsend, Port Angeles, Sequim, Forks, Sekiu-Clallam Bay, Amanda Park, Shelton, Silverdale, and Seattle. Over 250 people attended the workshops.

The NPS received approximately 500 comments on the Draft EIS by mail, fax, hand delivery, oral transcript, and via the Internet. In addition, approximately 637 additional individuals responded by using one of seven different form letters and approximately 827 individuals signed one of three petitions. The following topics received the most comment: access to park facilities, boundary adjustments, management zoning, Olympic Hot Springs restoration, Ozette Lake, partnerships, rivers and floodplains, socioeconomic resources, tribal treaty rights and trust resources, protection of ethnographic resources, employment opportunities, government-to-government consultation, partnerships, and how to improve relationships with the park, visitor use, stock use opportunities, wilderness management, and cultural resources management. Some commenters cited concerns related to accessibility, air quality, air tours and overflights, park budget and budget priorities, climate change, costs of implementing the preferred alternative, education and outreach, facilities management, fisheries resources, geologic processes, habitat, night sky, soundscape management, topics dismissed (e.g. environmental justice, unique farmlands), vegetation, water resources, wild and scenic river studies, and wildlife management (native, extirpated, and non-native).

Throughout the planning process, the NPS has consulted with various tribal, federal, state, and local government agencies, including the U.S. Forest Service, U.S. Fish and Wildlife Service (Western Washington Office and the Washington Islands National Wildlife Refuge), National Oceanic and Atmospheric Administration (Fisheries Office and Olympic Coast National Marine Sanctuary), Federal Highways Administration, Washington State Historic Preservation Office, the Advisory Council for Historic Preservation, Washington State Department of Natural Resources, Washington State Department of Transportation, and local, city, and county officials and agencies.

Consultations and informational meetings were also held with area tribal governments. Tribal consultation meetings were held with all eight tribes in 2001, and follow-up meetings were held in 2004 and 2005 to provide an update on the status of the plan. During the public review period, in 2006, meetings were offered to all eight tribes, and six tribes requested meetings. Six tribes provided a wide range of comments on the draft plan. Several tribes brought forward issues that need to be addressed outside the scope of the plan, such as jurisdiction, trust resources, treaty rights, gathering, and land issues. Tribes were also concerned about how boundary adjustments would affect their tribal treaty rights. The park integrated many tribal comments and suggested revisions into the final plan. At the request of the tribes, a meeting was held July 20, 2007 to review the tribal comments and the park responses and changes to the final plan. Seven of the eight tribes attended the meeting, plus three tribes requested individual meetings after the group session. While not all issues were addressed in the final plan, many issues were resolved and/or clarified.

SUPPLEMENTARY INFORMATION: The Final GMP/EIS is now available, and interested persons and organizations wishing to obtain the Final GMP/EIS may retrieve the document online at http://parkplanning.nps.gov/olym. The document is also available at these locations: Office of the Superintendent, Olympic National Park, 600 East Park Avenue, Port Angeles, Washington, 98362 (telephone requests taken at 360-565-3004); the Olympic National Park Visitor Center at Port Angeles; Olympic National Park-National Forest Information Station in Forks; and the Hoh Rain Forest Visitor Center. The document will also be available for inspection at the following area libraries: Daniel J. Evans Library, Evergreen State College; Kitsap Regional Library, Bremerton branch; North Olympic Library System at Clallam Bay, Forks, Port Angeles, and Sequim; Peninsula College Library; Port Townsend Public Library and Quilcene branch; Seattle Public Library; Tacoma Public Library; Timberland Regional Library at Aberdeen, Amanda Park, Hoodsport, and Hoquiam; University of Washington Library; William G. Reed Public Library; and at the Wilson Library, Western Washington University.

Decision Process: The NPS will execute a Record of Decision (ROD) no sooner than 30 days following publication by the Environmental Protection Agency of its notice of filing of the Final Environmental Impact Statement in the Federal Register. As a delegated EIS the official responsible for final approval of the General Management Plan is the Regional Director; subsequently the official responsible for implementing the new plan would be the Superintendent, Olympic National Park.

Dated: March 5, 2008.
Patricia L. Neubacher,
Acting Regional Director, Pacific West Region.

[FR Doc. E8-5045 Filed 3-12-08; 8:45 am]

BILLING CODE 4312-KY-P